DEPARTMENT OF HEALTH AND HUMAN SERVICES

Administration for Children and Families

Statement of Organization, Functions, and Delegations of Authority

AGENCY: Office of Planning, Research and Evaluation, Administration for Children and Families, HHS.

ACTION: Notice.

SUMMARY: Statement of Organizations, Functions, and Delegations of Authority. The Administration for Children and Families (ACF) has reorganized the Office of Planning, Research and Evaluation (OPRE). This reorganization creates a new Division of Data and Improvement. It will transfer the state systems assessment function and the project management and oversight for Public Assistance Reporting Information System (PARIS) from the Office of Administration, Office of Financial Services, to the new Division of Data and Improvement.

FOR FURTHER INFORMATION CONTACT: Naomi Goldstein, Deputy Assistant Secretary for Planning, Research and Evaluation, 330 C Street SW., Washington, DC 20201, 202-401-9220.

This notice amends Part K of the Statement of Organization, Functions, and Delegations of Authority of the Department of Health and Human Services (HHS), Administration for Children and Families (ACF), as follows: Chapter KM, OPRE, as last amended 77 FR 47077-47078, August 7, 2012.

I. Under Chapter KM, OPRE, delete in its entirety and replace with the following:

KM.00 MISSION. OPRE is the principal advisor to the Assistant Secretary for Children and Families on improving the effectiveness and efficiency of programs designed to make measurable improvements in the economic and social well-being of children and families. OPRE provides guidance, analysis, technical assistance, and oversight to ACF programs and across programs in the agency on: Strategic planning aimed at measurable results; performance measurement and management; research and evaluation methodologies; demonstration testing and model development; statistical policy and program analysis; synthesis and dissemination of research, evaluation, and demonstration findings; data quality, usefulness, and sharing; privacy; and application of emerging technologies to improve the effectiveness of programs and service delivery.

OPRE, through the Division of Economic Independence, the Division of Child and Family Development, the Division of Family Strengthening, and the Division of Data and Improvement, oversees and manages the research and evaluation programs under sections 413, 429, 511, 1110, and 2008 of the Social Security Act and section 649 of the Head Start Act, as well as other research, evaluation, data, and improvement activities authorized by Congress and related to ACF programs and the populations they serve. These activities include: Priority setting and analysis; managing and coordinating major cross-cutting, leading-edge studies and special initiatives; and collaborating with federal partners, states, communities, foundations, professional organizations, and others to promote the safety, well-being, and development of children, families, and communities; parental responsibility; employment; and economic independence.

OPRE also provides coordination and leadership in implementing the Government Performance and Results Act Modernization Act and the Paperwork Reduction Act, and provides expert advice on matters related to privacy and the sharing of information. The office coordinates mandated OMB information collection approvals and plans and includes ACF's Reports Clearance Officer.

KM.10 Organization. OPRE is headed by a Deputy Assistant Secretary, who reports to the Assistant Secretary for Children and Families. The Office is organized as follows:

Office of the Deputy Assistant Secretary (KMA)

Division of Economic Independence (KMB)

Division of Child and Family Development (KMC)

Division of Family Strengthening (KMD)

Division of Data and Improvement (KME)

KM.20 FUNCTIONS. A. The Office of the Deputy Assistant Secretary provides direction and executive leadership to OPRE in administering its responsibilities. It serves as principal advisor to the Assistant Secretary for Children and Families on all matters pertaining to: improving the effectiveness and efficiency of ACF programs; strategic planning; performance measurement and management; research, evaluation, statistical, and analysis methods; program and policy evaluation; research and demonstrations; state and local innovations and progress; synthesis and dissemination of research and evaluation findings; data quality, usefulness, and sharing; and application of emerging technologies to improve the effectiveness of programs and service delivery. It represents the Assistant Secretary for Children and Families at various planning, research, evaluation, data, and improvement forums and carries out special Departmental and Administration initiatives.

The Office of the Deputy Assistant Secretary manages the formulation and execution of budgets for OPRE programs; manages correspondence; manages review of funding opportunity announcements within OPRE; coordinates the provision of staff development and training; provides support for OPRE's personnel administration, including staffing, employee and labor relations, performance management, and employee recognition; manages OPRE space, facilities, and supplies; and oversees travel, time and attendance, and other administrative functions for OPRE.

B. The Division of Economic Independence, in cooperation with ACF income support programs and others, works with federal counterparts, states, community agencies, and the private sector to understand and overcome barriers to economic independence; promote parental responsibility; and assist in improving the effectiveness of programs that further economic independence. The Division provides guidance, analysis, technical assistance, and oversight in ACF on: Strategic planning and performance measurement for economic independence; statistical, policy, and program analysis; surveys, research, and evaluation methodologies; demonstration testing and model development; synthesis and dissemination of research and evaluation findings; and application of emerging technologies to programs that promote employment, parental responsibility, and economic independence.

The Division develops policy-relevant research priorities; conducts, manages, and coordinates major cross-program, leading-edge research, demonstrations, and evaluation studies; manages and conducts statistical, policy, and program analyses on trends in employment, child support payments, and other income supports; and works in partnership with states, communities, and the private sector to promote employment, parental responsibility, and family economic independence. Division staff also provides consultation, coordination, direction, and support for research and evaluation activities related to employment, parental responsibility, and family economic independence across ACF programs.

C. The Division of Child and Family Development, in cooperation with ACF programs and others, works with federal counterparts, states, community agencies, and the private sector to: Improve the effectiveness and efficiency of programs, and foster safety and sound growth and development of children and their families. The Division provides guidance, analysis, technical assistance, and oversight in ACF on: strategic planning and performance measurement for child and family development; statistical, policy, and program analysis; surveys, research and evaluation methodologies; demonstration testing and model development; synthesis and dissemination of research and evaluation findings; and application of emerging technologies to improve the effectiveness of programs and service delivery. The Division conducts, manages, and coordinates major cross-programs, leading-edge research, demonstration and evaluation studies; develops policy-relevant research priorities; and manages and conducts statistical, policy, and program analyses related to children and families. Division staff also provides consultation, coordination, direction, and support for research and evaluation activities related to children and families across ACF programs.

D. The Division of Family Strengthening, in cooperation with ACF programs and others, works with federal counterparts, states, community agencies, and the private sector to: improve the effectiveness and efficiency of programs; foster the safety, positive growth and development of children, youth, parents, and vulnerable populations; and strengthen families.

The Division provides guidance, analysis, technical assistance and oversight in ACF on: Parent, child, youth and family development and dynamics; child safety; statistical, policy and program analysis; surveys, research and evaluation methodologies; demonstration testing and model development; synthesis and dissemination of research and evaluation findings; and application of emerging technologies to improve the effectiveness of programs and service delivery.

The Division conducts, manages, and coordinates major cross-program, leading-edge research, demonstration, and evaluation studies; develops policy-relevant research priorities; and manages and conducts statistical, policy, and program analyses related to strengthening families. Division staff also provides consultation, coordination, direction and support for research and evaluation activities related to strengthening families across ACF programs.

E. The Division of Data and Improvement, in cooperation with ACF programs and others, works with federal counterparts, states, community agencies, and the private sector to improve the effectiveness and efficiency of programs through improving the quality, usefulness, interoperability, and availability of data. Division staff provide guidance, analysis, technical assistance, and oversight on strategic planning and performance measurement; statistical, policy, and program analysis; continuous improvement; surveys, data collection, and analysis methodologies; application of data analyses to program operations and decision-making; application of emerging technologies to improve the effectiveness of programs and service delivery; privacy and data security; and data sharing. The Division conducts, manages, and coordinates major cross-program, leading-edge research, demonstration, and evaluation studies related to the quality, usefulness, interoperability, and availability of data; develops policy-relevant priorities for data collection and analysis; manages and conducts statistical, policy, and program analyses; provides consultation, coordination, direction, and support for research and evaluation activities related to the quality, usefulness, interoperability, and availability of data; coordinates and develops policies and procedures for reviewing Federal Financial Participation in the cost of automated systems development to support programs funded under the Social Security Act; coordinates and develops systems, policies, and procedures to support data exchange in support of program access and program integrity; coordinates and supports implementation of technologies, strategies, and policies related to systems integration and interoperability systems assessments, systems design and planning, data exchanges, information management, information security, and electronic information exchanges across federal, state, local, tribal, and private systems. It serves as the departmental focal point and coordinator for the development and implementation of strategies and policies related to payment integrity, welfare systems integration, electronic benefit transfer, and related initiatives and programs. The Division provides leadership and guidance to interagency work groups in these areas for the Department.

II. Under Chapter KP, Office of Administration, Delete Paragraph C, and replace as follows:

The Office of Financial Services (OFS) supports the Deputy Assistant Secretary for Administration in fulfilling ACF's Chief Financial Officer (CFO) and Federal Manager's Financial (FMFIA) Management Control Officer responsibilities, including preparation of the CFO 5-Year Plan; performs audit oversight and liaison activities, including preparing reports to Congress, Office of the General Counsel, and the Office of the Inspector General. OFS writes/interprets financial policy and researches appropriation law issues; oversees and coordinates ACF's FMFIA activities; performs debt management functions; develops and administers quality assurance, training, and certification programs for grants management; and is responsible for the annual preparation and audit of ACF's financial statement requirements.

The Office develops/interprets internal policies and procedures for ACF components and coordinates the management of ACF's interagency agreement activities. The Office provides agency-wide guidance to program and regional office staff on grant-related issues, including developing and interpreting financial and grants policy, coordinating strategic grants planning, facilitating policy advisory groups, and assuring consistent grant program announcements. The Office prepares, coordinates, and disseminates action transmittals, information memoranda, and other policy guidance on financial and grants management issues; provides financial and grants administration technical assistance to ACF staff; directs and/or coordinates management initiatives to improve financial administration of ACF mandatory and discretionary grant programs. OFS develops and administers grants management training for ACF program and grants staff and administers grants management certification for ACF grants staff.

III. Continuation of Policy. Except as inconsistent with this reorganization, all statements of policy and interpretations with respect to organizational components affected by this notice within ACF, heretofore issued and in effect on this date of this reorganization are continued in full force and effect.

IV. Delegation of Authority. All delegations and redelegations of authority made to officials and employees of affected organizational components will continue in them or their successors pending further redelegations, provided they are consistent with this reorganization.

V. Funds, Personnel, and Equipment. Transfer of organizations and functions affected by this reorganization shall be accompanied in each instance by direct and support funds, positions, personnel, records, equipment, supplies, and other resources.

This reorganization will be effective upon date of signature.

Dated: June 20, 2016.
Mark H. Greenberg,
Acting Assistant Secretary for Children and Families.

[FR Doc. 2016-14981 Filed 6-23-16; 8:45 am]

BILLING CODE 4184-34-P